DEPARTMENT OF ENERGY

Federal Energy Regulatory Commission

18 CFR Part 341

[Docket Nos. RM12-15-000 and RM01-5-000]

Filing, Indexing and Service Requirements for Oil Pipelines

AGENCY: Federal Energy Regulatory Commission, DOE.

ACTION: Notice of extension of compliance date.

SUMMARY: This document revises the date to comply with the terms of the Final Rule (RM12-15-000) which was published in the Federal Register of Wednesday, May 29, 2013. The rule amended regulations under the Interstate Commerce Act to update requirements governing the form, composition and filing of rates and charges by interstate oil pipelines for transportation in interstate commerce.

DATES: Effective May 15, 2014.

FOR FURTHER INFORMATION CONTACT: Aaron Kahn (Technical Issues), 888 First Street, NE., Washington, DC 20426, (202) 502-8339, aaron.kahn@ferc.gov.

SUPPLEMENTARY INFORMATION:

Notice Regarding Compliance Date

On June 14, 2013, the Commission granted an indefinite extension of time for compliance with the Final Rule in Docket No. RM12-15-000 (May 16, 2013 Order) ¹ pending final clearance from the Office of Management and Budget (OMB) and further notice from the Commission. The Commission received clearance from OMB on September 30, 2013. Beginning May 15, 2014, covered entities are required to comply with the terms of the Final Rule published May 29, 2013 at 78 FR 32090.

¹ Filing, Indexing and Service Requirements for Oil Pipelines, Order No. 780, 78 FR 32090 (May 29, 2013), FERC Stats. & Regs. ¶ 31,347 (2013).

Dated: April 9, 2014.
Kimberly D. Bose,
Secretary.

[FR Doc. 2014-08510 Filed 4-14-14; 8:45 am]

BILLING CODE 6717-01-P